DEPARTMENT OF HOMELAND SECURITY

National Protection and Programs Directorate; Submission for Review: TRIPWire User Registration 1670-NEW

AGENCY: National Protection and Programs Directorate, Infrastructure Protection, DHS.

ACTION: 60-Day Notice and request for comments.

SUMMARY: The Department of Homeland Security (DHS) invites the general public and other federal agencies to comment on new information collection request 1670-NEW, TRIPWire User Registration. As required by the Paperwork Reduction Act of 1995, (Pub. L. 104-13, 44 U.S.C. chapter 35) as amended by the Clinger-Cohen Act (Pub. L. 104-106), DHS is soliciting comments for this collection.

DATES: Comments are encouraged and will be accepted until September 15, 2008. This process is conducted in accordance with 5 CFR 1320.1.

ADDRESSES: Interested persons are invited to submit written comments on the proposed information collection to Department of Homeland Security, Attn: IP/PSCD/Charlie Payne, Mail Stop 8540, 245 Murray Lane, SW., Washington, DC 20528-8540, or e-mail obp@dhs.gov.

FOR FURTHER INFORMATION CONTACT: Department of Homeland Security, Attn: IP/PSCD/Charlie Payne, Mail Stop 8540, 245 Murray Lane, SW., Washington, DC 20528-8540, or e-mail obp@dhs.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Analysis

Agency: Department of Homeland Security, National Protection and Programs Directorate, Infrastructure Protection.

Title: TRIPWire User Registration.

OMB Number: 1670-NEW.

Frequency: Once.

Affected Public: Federal, State, Local, Tribal.

Number of Respondents: 5000.

Estimated Time Per Respondent: 10 minutes.

Total Burden Hours: 834 hours.

Total Burden Cost (capital/startup): None.

Total Burden Cost (operating/maintaining): None.

Description: The Technical Resource for Incident Prevention (TRIPWire) is DHS's online, collaborative, information-sharing network for bomb squad, law enforcement, and other emergency services personnel to learn about current terrorist improvised explosive device (IED) tactics, techniques, and procedures, including design and emplacement considerations. Developed and maintained by the DHS Office for Bombing Prevention (OBP), the system combines expert analyses and reports with relevant documents, images, and videos gathered directly from terrorist sources to assist law enforcement to anticipate, identify, and prevent IED incidents. The TRIPWire portal contains sensitive information related to terrorist use of explosives and therefore user information is needed to verify eligibility and access to the system.

Dated: July 9, 2008.
John Campbell,
Acting Chief Information Officer, National Protection and Programs Directorate, Department of Homeland Security.

[FR Doc. E8-16166 Filed 7-14-08; 8:45 am]

BILLING CODE 4410-10-P